NUCLEAR REGULATORY COMMISSION

[NRC-2022-0214]

Environmental Assessment and Finding of No Significant Impact of Independent Spent Fuel Storage Facilities Decommissioning Funding Plans

AGENCY: Nuclear Regulatory Commission.

ACTION: Environmental assessment and finding of no significant impact; issuance.

SUMMARY: The U.S. Nuclear Regulatory Commission (NRC) is publishing this notice regarding the issuance of a final environmental assessment (EA) and a finding of no significant impact (FONSI) for its review and approval of the updated decommissioning funding plans (DFPs) submitted by independent spent fuel storage installation (ISFSI) licensees for the ISFSIs listed in the “Discussion” section of this document.

DATES: The EA and FONSI referenced in this document are available on January 31, 2023.

ADDRESSES: Please refer to Docket ID NRC-2022-0214 when contacting the NRC about the availability of information regarding this document. You may obtain publicly available information related to this document using any of the following methods:

• Federal Rulemaking Website: Go to https://www.regulations.gov and search for Docket ID NRC-2022-0214. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: Tilda Liu, Office of Nuclear Material Safety and Safeguards, U.S. Nuclear Regulatory Commission, Washington, DC 20555-0001; telephone: 404-997-4730, email: Tilda.Liu@nrc.gov.

SUPPLEMENTARY INFORMATION:

I. Introduction

The NRC is considering the approval of the updated DFPs submitted by ISFSI licensees. The NRC staff has prepared a final EA and FONSI determination for each of the updated ISFSI DFPs in accordance with the NRC regulations in part 51 of title 10 of the Code of Federal Regulations (10 CFR), “Environmental Protection Regulations for Domestic Licensing and Related Regulatory Functions,” which implement the National Environmental Policy Act of 1969, as amended (42 U.S.C. 4321 et seq.).

The NRC requires its licensees to plan for the eventual decommissioning of their licensed facilities prior to license termination. On June 17, 2011, the NRC published a final rule in the Federal Register amending its decommissioning planning regulations (76 FR 35511). The final rule amended the NRC regulation, 10 CFR 72.30, which concerns financial assurance and decommissioning for ISFSIs. This regulation requires each holder of, or applicant for, a license under 10 CFR part 72 to submit a DFP for the NRC's review and approval. The DFP is to demonstrate the licensee's financial assurance, i.e., that funds will be available to decommission the ISFSI. The NRC staff will later publish its financial analyses of the DFP submittals which will be available for public inspection in ADAMS.

II. Discussion

The table in this notice includes the plant name, docket number, licensee, and ADAMS accession number for the final EA and FONSI determination for each of the individual ISFSIs. The table also includes the ADAMS accession numbers for other relevant documents, including the updated DFP submittals. For further details with respect to these actions, see the NRC staff's final EA and FONSI determinations which are available for public inspection in ADAMS and at https://www.regulations.gov under Docket ID NRC-2022-0214. For additional direction on accessing information related to this document, see the ADDRESSES section of this document.

Finding of No Significant Impact
Brunswick Steam Electric Plant
Docket No. | 72-06.
Licensee | Duke Energy Progress, LLC (Duke Energy).
Proposed Action | The NRC's review and approval of Duke Energy's updated DFPs submitted in accordance with 10 CFR 72.30(c).
Environmental Impact of Proposed Action | The NRC staff has determined that the proposed action, the review and approval of Duke Energy's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Duke Energy's updated DFPs. The scope of the proposed action does not include, and will not result in, the review and approval of decontamination or decommissioning activities or license termination for the ISFSI or for other parts of the Brunswick Steam Electric Plant. Therefore, the NRC staff determined that approval of the updated DFPs for the Brunswick Steam Electric Plant ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments.” March 12, 1984 (49 FR 9381).
| Federal Register notice. Final Rule “Decommissioning Planning.” June 17, 2011 (76 FR 35512).
| Federal Register notice. Environmental Assessment and Finding of No Significant Impact of Independent Spent Fuel Storage Facilities Decommissioning Funding Plans. April 30, 2021 (86 FR 22978).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR Parts 20, 30, 40, 50, 70, and 72; RIN 3150-AI55). February 2009. ADAMS Accession No. ML090500648.
| U.S. Nuclear Regulatory Commission. Request for Additional Information for Review of the Decommissioning Funding Plans for Duke Energy Independent Spent Fuel Storage Installations, dated August 1, 2013. ADAMS Accession No. ML13214A228.
| U.S. Nuclear Regulatory Commission. Review of the Draft Environmental Assessment for the Brunswick Steam Electric Plant Independent Spent Fuel Storage Installation Decommissioning Funding Plan, dated August 10, 2015. ADAMS Accession No. ML15224B450.
| U.S. Nuclear Regulatory Commission. ESA Section 7 No Effect Determination for ISFSI DFP Reviews (Note to File), dated May 15, 2017. ADAMS Accession No. ML17135A062.
| U.S. Nuclear Regulatory Commission. Request for Additional Information for Review of Duke Energy's Decommissioning Funding Plan Update for H.B. Robinson Steam Electric Plant, Unit 2; Brunswick Steam Electric Plant; Catawba Nuclear Station; McGuire Nuclear Station; and Oconee Nuclear Station Independent Spent Fuel Storage Installations, dated February 23, 2018. ADAMS Package Accession No. ML18057A216.
| U.S. Nuclear Regulatory Commission. Review of the Draft Environmental Assessment and Finding of No Significant Impact for Brunswick Steam Electric Plant, McGuire Nuclear Station, and H.B. Robinson Steam Electric Plant, Unit 2, Independent Spent Fuel Storage Installations Decommissioning Funding Plans, dated March 15, 2021. ADAMS Package Accession No. ML21071A069.
| U.S. Nuclear Regulatory Commission. Final Environmental Assessment and Finding of No Significant Impact for Duke Energy's Initial and Updated Decommissioning Funding Plans Submitted in Accordance with 10 CFR 72.30(b) and (c) for Brunswick Steam Electric Plant Independent Spent Fuel Storage Installation, dated April 22, 2021. ADAMS Package Accession No. ML21056A375.
| U.S. Nuclear Regulatory Commission. U.S. Nuclear Regulatory Commission Analysis of Duke Energy's Initial and Updated Decommissioning Funding Plans for Independent Spent Fuel Storage Installations at H.B. Robinson Steam Electric Plant, Unit 2, Brunswick Steam Electric Plant, Catawba Nuclear Station, McGuire Nuclear Station, and Oconee Nuclear Station, dated April 30, 2021. ADAMS Accession No. ML21078A497.
| U.S. Nuclear Regulatory Commission. Review of the Draft Environmental Assessment and Finding of No Significant Impact for Brunswick Steam Electric Plant and McGuire Nuclear Station Independent Spent Fuel Storage Installations Decommissioning Funding Plans, dated September 1, 2022. ADAMS Accession No. ML22230B613.
| Duke Energy. Decommissioning Funding Plan for Interim Spent Fuel Storage Installations, dated December 13, 2012. ADAMS Accession No. ML12353A033.
| Duke Energy. Response to NRC Request for Additional Information Dated August 1, 2013, Regarding the Decommissioning Funding Status Report for the Independent Spent Fuel Storage Installations, dated September 30, 2013. ADAMS Accession No. ML13275A203.
| Duke Energy. Decommissioning Funding Plan for Independent Spent Fuel Storage Installations (ISFSIs), dated March 30, 2015. ADAMS Accession No. ML15089A394.
| Duke Energy. Decommissioning Funding Plan for Independent Spent Fuel Storage Installations (ISFSIs), dated March 29, 2017. ADAMS Accession No. ML17088A701.
| Duke Energy. Response to Request for Additional Information Regarding Duke Energy's Decommissioning Funding Plan Update for Independent Spent Fuel Storage Installations, dated March 28, 2018. ADAMS Accession No. ML18101A058.
| Duke Energy. Decommissioning Funding Plan for Independent Spent Fuel Storage Installations (ISFSIs), dated April 1, 2019. ADAMS Accession No. ML19091A079.
| Duke Energy. Decommissioning Funding Plan for Independent Spent Fuel Storage Installations (ISFSIs), dated March 30, 2021. ADAMS Accession No. ML21089A271.
Catawba Nuclear Station
Docket No. | 72-45.
Licensee | Duke Energy Progress, LLC (Duke Energy).
Proposed Action | The NRC's review and approval of Duke Energy's updated DFPs submitted in accordance with 10 CFR 72.30(c).
Environmental Impact of Proposed Action | The NRC staff has determined that the proposed action, the review and approval of Duke Energy's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Duke Energy's updated DFPs. The scope of the proposed action does not include, and will not result in, the review and approval of decontamination or decommissioning activities or license termination for the ISFSI or for other parts of the Catawba Nuclear Station. Therefore, the NRC staff determined that approval of the updated DFPs for the Catawba Nuclear Station ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments.” March 12, 1984 (49 FR 9381).
| Federal Register notice. Final Rule “Decommissioning Planning.” June 17, 2011 (76 FR 35512).
| Federal Register notice. Environmental Assessment and Finding of No Significant Impact of Independent Spent Fuel Storage Facilities Decommissioning Funding Plans. April 30, 2021 (86 FR 22978).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR Parts 20, 30, 40, 50, 70, and 72; RIN 3150-AI55). February 2009. ADAMS Accession No. ML090500648.
| U.S. Nuclear Regulatory Commission. Request for Additional Information for Review of the Decommissioning Funding Plans for Duke Energy Independent Spent Fuel Storage Installations, dated August 1, 2013. ADAMS Accession No. ML13214A228.
| U.S. Nuclear Regulatory Commission. Review of the Draft Environmental Assessment for the Catawba Nuclear Station Independent Spent Fuel Storage Installation Decommissioning Funding Plan, dated August 10, 2015. ADAMS Accession No. ML15224A292.
| U.S. Nuclear Regulatory Commission. ESA Section 7 No Effect Determination for ISFSI DFP Reviews (Note to File), dated May 15, 2017. ADAMS Accession No. ML17135A062.
| U.S. Nuclear Regulatory Commission. Request for Additional Information for Review of Duke Energy's Decommissioning Funding Plan Update for H.B. Robinson Steam Electric Plant, Unit 2; Brunswick Steam Electric Plant; Catawba Nuclear Station; McGuire Nuclear Station; and Oconee Nuclear Station Independent Spent Fuel Storage Installations, dated February 23, 2018. ADAMS Accession No. ML18057A216.
| U.S. Nuclear Regulatory Commission. Review of the Draft Environmental Assessment and Finding of No Significant Impact for Brunswick Steam Electric Plant, McGuire Nuclear Station, and H.B. Robinson Steam Electric Plant, Unit 2, Independent Spent Fuel Storage Installations Decommissioning Funding Plans, dated March 15, 2021. ADAMS Package Accession No. ML21071A069.
| U.S. Nuclear Regulatory Commission. Final Environmental Assessment and Finding of No Significant Impact for Duke Energy's Initial and Updated Decommissioning Funding Plans Submitted in Accordance With 10 CFR 72.30(b) and (c) for Catawba Nuclear Station Independent Spent Fuel Storage Installation, dated April 22, 2021. ADAMS Package Accession No. ML21056A447.
| U.S. Nuclear Regulatory Commission. U.S. Nuclear Regulatory Commission Analysis of Duke Energy's Initial and Updated Decommissioning Funding Plans for Independent Spent Fuel Storage Installations at H.B. Robinson Steam Electric Plant, Unit 2, Brunswick Steam Electric Plant, Catawba Nuclear Station, McGuire Nuclear Station, and Oconee Nuclear Station, dated April 30, 2021. ADAMS Accession No. ML21078A497.
| U.S. Nuclear Regulatory Commission. Review of the Draft Environmental Assessment and Finding of No Significant Impact for Catawba Nuclear Station, H.B. Robinson Steam Electric Plant, and Oconee Nuclear Station Independent Spent Fuel Storage Installations Decommissioning Funding Plans, dated September 1, 2022. ADAMS Accession No. ML22231B136.
| Duke Energy. Decommissioning Funding Plan for Interim Spent Fuel Storage Installations, dated December 13, 2012. ADAMS Accession No. ML12353A033.
| Duke Energy. Response to NRC Request for Additional Information Dated August 1, 2013, Regarding the Decommissioning Funding Status Report for the Independent Spent Fuel Storage Installations, dated September 30, 2013. ADAMS Accession No. ML13275A203.
| Duke Energy. Decommissioning Funding Plan for Independent Spent Fuel Storage Installations (ISFSIs), dated March 30, 2015. ADAMS Accession No. ML15089A394.
| Duke Energy. Decommissioning Funding Plan for Independent Spent Fuel Storage Installations (ISFSIs), dated March 29, 2017. ADAMS Accession No. ML17088A701.
| Duke Energy. Response to Request for Additional Information Regarding Duke Energy's Decommissioning Funding Plan Update for Independent Spent Fuel Storage Installations, dated March 28, 2018. ADAMS Accession No. ML18101A058.
| Duke Energy. Decommissioning Funding Plan for Independent Spent Fuel Storage Installations (ISFSIs), dated April 1, 2019. ADAMS Accession No. ML19091A079.
| Duke Energy. Decommissioning Funding Plan for Independent Spent Fuel Storage Installations (ISFSIs), dated March 30, 2021. ADAMS Accession No. ML21089A271.
McGuire Nuclear Station
Docket No. | 72-38.
Licensee | Duke Energy Progress, LLC (Duke Energy).
Proposed Action | The NRC's review and approval of Duke Energy's updated DFPs submitted in accordance with 10 CFR 72.30(c).
Environmental Impact of Proposed Action | The NRC staff has determined that the proposed action, the review and approval of Duke Energy's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Duke Energy's updated DFPs. The scope of the proposed action does not include, and will not result in, the review and approval of decontamination or decommissioning activities or license termination for the ISFSI or for other parts of the McGuire Nuclear Station. Therefore, the NRC staff determined that approval of the updated DFPs for the McGuire Nuclear Station ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments.” March 12, 1984 (49 FR 9381).
| Federal Register notice. Final Rule “Decommissioning Planning.” June 17, 2011 (76 FR 35512).
| Federal Register notice. Environmental Assessment and Finding of No Significant Impact of Independent Spent Fuel Storage Facilities Decommissioning Funding Plans. April 30, 2021 (86 FR 22978).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR Parts 20, 30, 40, 50, 70, and 72; RIN 3150-AI55). February 2009. ADAMS Accession No. ML090500648.
| U.S. Nuclear Regulatory Commission. Request for Additional Information for Review of the Decommissioning Funding Plans for Duke Energy Independent Spent Fuel Storage Installations, dated August 1, 2013. ADAMS Accession No. ML13214A228.
| U.S. Nuclear Regulatory Commission. Review of the Draft Environmental Assessment for the McGuire Nuclear Station Independent Spent Fuel Storage Installation Decommissioning Funding Plan, dated August 10, 2015. ADAMS Accession No. ML15224A810.
| U.S. Nuclear Regulatory Commission. ESA Section 7 No Effect Determination for ISFSI DFP Reviews (Note to File), dated May 15, 2017. ADAMS Accession No. ML17135A062.
| U.S. Nuclear Regulatory Commission. Request for Additional Information for Review of Duke Energy's Decommissioning Funding Plan Update for H.B. Robinson Steam Electric Plant, Unit 2; Brunswick Steam Electric Plant; Catawba Nuclear Station; McGuire Nuclear Station; and Oconee Nuclear Station Independent Spent Fuel Storage Installations, dated February 23, 2018. ADAMS Accession No. ML18057A216.
| U.S. Nuclear Regulatory Commission. Review of the Draft Environmental Assessment and Finding of No Significant Impact for Brunswick Steam Electric Plant, McGuire Nuclear Station, and H.B. Robinson Steam Electric Plant, Unit 2, Independent Spent Fuel Storage Installations Decommissioning Funding Plans, dated March 15, 2021. ADAMS Accession No. ML21071A069.
| U.S. Nuclear Regulatory Commission. Final Environmental Assessment and Finding of No Significant Impact for Duke Energy's Initial and Updated Decommissioning Funding Plans Submitted in Accordance With 10 CFR 72.30(b) and (c) for McGuire Nuclear Station Independent Spent Fuel Storage Installation, dated April 22, 2021. ADAMS Package Accession No. ML21056A549.
| U.S. Nuclear Regulatory Commission. U.S. Nuclear Regulatory Commission Analysis of Duke Energy's Initial and Updated Decommissioning Funding Plans for Independent Spent Fuel Storage Installations at H.B. Robinson Steam Electric Plant, Unit 2, Brunswick Steam Electric Plant, Catawba Nuclear Station, McGuire Nuclear Station, and Oconee Nuclear Station, dated April 30, 2021. ADAMS Accession No. ML21078A497.
| U.S. Nuclear Regulatory Commission. Review of the Draft Environmental Assessment and Finding of No Significant Impact for Brunswick Steam Electric Plant and McGuire Nuclear Station Independent Spent Fuel Storage Installations Decommissioning Funding Plans, dated September 1, 2022. ADAMS Accession No. ML22230B613.
| Duke Energy. Decommissioning Funding Plan for Interim Spent Fuel Storage Installations, dated December 13, 2012. ADAMS Accession No. ML12353A033.
| Duke Energy. Response to NRC Request for Additional Information Dated August 1, 2013, Regarding the Decommissioning Funding Status Report for the Independent Spent Fuel Storage Installations, dated September 30, 2013. ADAMS Accession No. ML13275A203.
| Duke Energy. Decommissioning Funding Plan for Independent Spent Fuel Storage Installations (ISFSIs), dated March 30, 2015. ADAMS Accession No. ML15089A394.
| Duke Energy. Decommissioning Funding Plan for Independent Spent Fuel Storage Installations (ISFSIs), dated March 29, 2017. ADAMS Accession No. ML17088A701.
| Duke Energy. Response to Request for Additional Information Regarding Duke Energy's Decommissioning Funding Plan Update for Independent Spent Fuel Storage Installations, dated March 28, 2018. ADAMS Accession No. ML18101A058.
| Duke Energy. Decommissioning Funding Plan for Independent Spent Fuel Storage Installations (ISFSIs), dated April 1, 2019. ADAMS Accession No. ML19091A079.
| Duke Energy. Decommissioning Funding Plan for Independent Spent Fuel Storage Installations (ISFSIs), dated March 30, 2021. ADAMS Accession No. ML21089A271.
Oconee Nuclear Station
Docket Nos. | 72-04, 72-40.
Licensee | Duke Energy Progress, LLC (Duke Energy).
Proposed Action | The NRC's review and approval of Duke Energy's updated DFPs submitted in accordance with 10 CFR 72.30(c).
Environmental Impact of Proposed Action | The NRC staff has determined that the proposed action, the review and approval of Duke Energy's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Duke Energy's updated DFPs. The scope of the proposed action does not include, and will not result in, the review and approval of decontamination or decommissioning activities or license termination for the ISFSI or for other parts of the Oconee Nuclear Station. Therefore, the NRC staff determined that approval of the updated DFPs for the Oconee Nuclear Station ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments.” March 12, 1984 (49 FR 9381).
| Federal Register notice. Final Rule “Decommissioning Planning.” June 17, 2011 (76 FR 35512).
| Federal Register notice. Environmental Assessment and Finding of No Significant Impact of Independent Spent Fuel Storage Facilities Decommissioning Funding Plans. April 30, 2021 (86 FR 22978).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR Parts 20, 30, 40, 50, 70, and 72; RIN 3150-AI55). February 2009. ADAMS Accession No. ML090500648.
| U.S. Nuclear Regulatory Commission. Request for Additional Information for Review of the Decommissioning Funding Plans for Duke Energy Independent Spent Fuel Storage Installations, dated August 1, 2013. ADAMS Accession No. ML13214A228.
| U.S. Nuclear Regulatory Commission. Review of the Draft Environmental Assessment for the Oconee Nuclear Station Independent Spent Fuel Storage Installation Decommissioning Funding Plan, dated August 10, 2015. ADAMS Accession No. ML15224B563.
| U.S. Nuclear Regulatory Commission. ESA Section 7 No Effect Determination for ISFSI DFP Reviews (Note to File), dated May 15, 2017. ADAMS Accession No. ML17135A062.
| U.S. Nuclear Regulatory Commission. Request for Additional Information for Review of Duke Energy's Decommissioning Funding Plan Update for H.B. Robinson Steam Electric Plant, Unit 2; Brunswick Steam Electric Plant; Catawba Nuclear Station; McGuire Nuclear Station; and Oconee Nuclear Station Independent Spent Fuel Storage Installations, dated February 23, 2018. ADAMS Accession No. ML18057A216.
| U.S. Nuclear Regulatory Commission. Review of the Draft Environmental Assessment and Finding of No Significant Impact for Brunswick Steam Electric Plant, McGuire Nuclear Station, and H.B. Robinson Steam Electric Plant, Unit 2, Independent Spent Fuel Storage Installations Decommissioning Funding Plans, dated March 15, 2021. ADAMS Package Accession No. ML21071A069.
| U.S. Nuclear Regulatory Commission. Final Environmental Assessment and Finding of No Significant Impact for Duke Energy's Initial and Updated Decommissioning Funding Plans Submitted in Accordance With 10 CFR 72.30(b) and (c) for Oconee Nuclear Station Independent Spent Fuel Storage Installation, dated April 22, 2021. ADAMS Package Accession No. ML21055A866.
| U.S. Nuclear Regulatory Commission. U.S. Nuclear Regulatory Commission Analysis of Duke Energy's Initial and Updated Decommissioning Funding Plans for Independent Spent Fuel Storage Installations at H.B. Robinson Steam Electric Plant, Unit 2, Brunswick Steam Electric Plant, Catawba Nuclear Station, McGuire Nuclear Station, and Oconee Nuclear Station, dated April 30, 2021. ADAMS Accession No. ML21078A497.
| U.S. Nuclear Regulatory Commission. Review of the Draft Environmental Assessment and Finding of No Significant Impact for Catawba Nuclear Station, H.B. Robinson Steam Electric Plant, and Oconee Nuclear Station Independent Spent Fuel Storage Installations Decommissioning Funding Plans, dated September 1, 2022. ADAMS Accession No. ML22231B136.
| Duke Energy. Decommissioning Funding Plan for Interim Spent Fuel Storage Installations, dated December 13, 2012. ADAMS Accession No. ML12353A033.
| Duke Energy. Response to NRC Request for Additional Information Dated August 1, 2013, Regarding the Decommissioning Funding Status Report for the Independent Spent Fuel Storage Installations, dated September 30, 2013. ADAMS Accession No. ML13275A203.
| Duke Energy. Decommissioning Funding Plan for Independent Spent Fuel Storage Installations (ISFSIs), dated March 30, 2015. ADAMS Accession No. ML15089A394.
| Duke Energy. Decommissioning Funding Plan for Independent Spent Fuel Storage Installations (ISFSIs), dated March 29, 2017. ADAMS Accession No. ML17088A701.
| Duke Energy. Response to Request for Additional Information Regarding Duke Energy's Decommissioning Funding Plan Update for Independent Spent Fuel Storage Installations, dated March 28, 2018. ADAMS Accession No. ML18101A058.
| Duke Energy. Decommissioning Funding Plan for Independent Spent Fuel Storage Installations (ISFSIs), dated April 1, 2019. ADAMS Accession No. ML19091A079.
| Duke Energy. Decommissioning Funding Plan for Independent Spent Fuel Storage Installations (ISFSIs), dated March 30, 2021. ADAMS Accession No. ML21089A271.
H.B. Robinson Steam Electric Plant, Unit 2
Docket Nos. | 72-03, 72-60.
Licensee | Duke Energy Progress, LLC (Duke Energy).
Proposed Action | The NRC's review and approval of Duke Energy's updated DFPs submitted in accordance with 10 CFR 72.30(c).
Environmental Impact of Proposed Action | The NRC staff has determined that the proposed action, the review and approval of Duke Energy's updated DFPs, submitted in accordance with 10 CFR 72.30(c), will not authorize changes to licensed operations or maintenance activities, or result in changes in the types, characteristics, or quantities of radiological or non-radiological effluents released into the environment from the ISFSI, or result in the creation of solid waste. Moreover, the approval of the updated DFPs will not authorize any construction activity, facility modification, or other land-disturbing activity. The NRC staff has concluded that the proposed action is a procedural and administrative action that will not have a significant impact on the environment.
Finding of No Significant Impact | The proposed action does not require changes to the ISFSI's licensed routine operations, maintenance activities, or monitoring programs, nor does it require new construction or land-disturbing activities. The scope of the proposed action concerns only the NRC's review and approval of Duke Energy's updated DFPs. The scope of the proposed action does not include, and will not result in, the review and approval of decontamination or decommissioning activities or license termination for the ISFSI or for other parts of the H.B. Robinson Steam Electric Plant, Unit 2. Therefore, the NRC staff determined that approval of the updated DFPs for the H.B. Robinson Steam Electric Plant, Unit 2, ISFSI will not significantly affect the quality of the human environment, and accordingly, the staff has concluded that a FONSI is appropriate. The NRC staff further finds that preparation of an environmental impact statement is not required.
Available Documents | Federal Register notice. Final Rule “Environmental Protection Regulations for Domestic Licensing and Related Regulatory Functions and Related Conforming Amendments.” March 12, 1984 (49 FR 9381).
| Federal Register notice. Final Rule “Decommissioning Planning.” June 17, 2011 (76 FR 35512).
| Federal Register notice. Environmental Assessment and Finding of No Significant Impact of Independent Spent Fuel Storage Facilities Decommissioning Funding Plans. April 30, 2021 (86 FR 22978).
| U.S. Nuclear Regulatory Commission. 2003/08/31-NUREG-1748, “Environmental Review Guidance for Licensing Actions Associated with NMSS Programs, Final Report.” August 2003. ADAMS Accession No. ML032540811.
| U.S. Nuclear Regulatory Commission. “Environmental Assessment for Final Rule—Decommissioning Planning” (10 CFR Parts 20, 30, 40, 50, 70, and 72; RIN 3150-AI55). February 2009. ADAMS Accession No. ML090500648.
| U.S. Nuclear Regulatory Commission. Request for Additional Information for Review of the Decommissioning Funding Plans for Duke Energy Independent Spent Fuel Storage Installations, dated August 1, 2013. ADAMS Accession No. ML13214A228.
| U.S. Nuclear Regulatory Commission. Review of the Draft Environmental Assessment for the H.B. Robinson Steam Electric Plant, Unit 2, Independent Spent Fuel Storage Installation Decommissioning Funding Plan, dated August 10, 2015. ADAMS Accession No. ML15224B295.
| U.S. Nuclear Regulatory Commission. ESA Section 7 No Effect Determination for ISFSI DFP Reviews (Note to File), dated May 15, 2017. ADAMS Accession No. ML17135A062.
| U.S. Nuclear Regulatory Commission. Request for Additional Information for Review of Duke Energy's Decommissioning Funding Plan Update for H.B. Robinson Steam Electric Plant, Unit 2; Brunswick Steam Electric Plant; Catawba Nuclear Station; McGuire Nuclear Station; and Oconee Nuclear Station Independent Spent Fuel Storage Installations, dated February 23, 2018. ADAMS Accession No. ML18057A216.
| U.S. Nuclear Regulatory Commission. Review of the Draft Environmental Assessment and Finding of No Significant Impact for Brunswick Steam Electric Plant, McGuire Nuclear Station, and H.B. Robinson Steam Electric Plant, Unit 2, Independent Spent Fuel Storage Installations Decommissioning Funding Plans, dated March 15, 2021. ADAMS Package Accession No. ML21071A069.
| U.S. Nuclear Regulatory Commission. Final Environmental Assessment and Finding of No Significant Impact for Duke Energy's Initial and Updated Decommissioning Funding Plans Submitted in Accordance With 10 CFR 72.30(b) and (c) for H.B. Robinson Steam Electric Plant, Unit 2, Independent Spent Fuel Storage Installation, dated April 22, 2021. ADAMS Package Accession No. ML21056A261.
| U.S. Nuclear Regulatory Commission. U.S. Nuclear Regulatory Commission Analysis of Duke Energy's Initial and Updated Decommissioning Funding Plans for Independent Spent Fuel Storage Installations at H.B. Robinson Steam Electric Plant, Unit 2, Brunswick Steam Electric Plant, Catawba Nuclear Station, McGuire Nuclear Station, and Oconee Nuclear Station, dated April 30, 2021. ADAMS Accession No. ML21078A497.
| U.S. Nuclear Regulatory Commission. Review of the Draft Environmental Assessment and Finding of No Significant Impact for Catawba Nuclear Station, H.B. Robinson Steam Electric Plant, and Oconee Nuclear Station Independent Spent Fuel Storage Installations Decommissioning Funding Plans, dated September 1, 2022. ADAMS Accession No. ML22231B136.
| Duke Energy. Decommissioning Funding Plan for Interim Spent Fuel Storage Installations, dated December 13, 2012. ADAMS Accession No. ML12353A033.
| Duke Energy. Response to NRC Request for Additional Information Dated August 1, 2013, Regarding the Decommissioning Funding Status Report for the Independent Spent Fuel Storage Installations, dated September 30, 2013. ADAMS Accession No. ML13275A203.
| Duke Energy. Decommissioning Funding Plan for Independent Spent Fuel Storage Installations (ISFSIs), dated March 30, 2015. ADAMS Accession No. ML15089A394.
| Duke Energy. Decommissioning Funding Plan for Independent Spent Fuel Storage Installations (ISFSIs), dated March 29, 2017. ADAMS Accession No. ML17088A701.
| Duke Energy. Response to Request for Additional Information Regarding Duke Energy's Decommissioning Funding Plan Update for Independent Spent Fuel Storage Installations, dated March 28, 2018. ADAMS Accession No. ML18101A058.
| Duke Energy. Decommissioning Funding Plan for Independent Spent Fuel Storage Installations (ISFSIs), dated April 1, 2019. ADAMS Accession No. ML19091A079.
| Duke Energy. Decommissioning Funding Plan for Independent Spent Fuel Storage Installations (ISFSIs), dated March 30, 2021. ADAMS Accession No. ML21089A271.

Dated: January 25, 2023.
For the Nuclear Regulatory Commission.
Yoira K. Diaz-Sanabria,
Chief, Storage and Transportation Licensing Branch, Division of Fuel Management, Office of Nuclear Material Safety and Safeguards.

[FR Doc. 2023-01921 Filed 1-30-23; 8:45 am]

BILLING CODE 7590-01-P